DEPARTMENT OF TRANSPORTATION

Federal Highway Administration

Environmental Impact Statement: King County Washington

AGENCY: Federal Highway Administration (FHWA), King County Department of Transportation, WA

ACTION: Notice of Intent to prepare a draft supplemental environmental impact statement (EIS).

SUMMARY: The FHWA, in cooperation with the Washington State Department of Transportation (WSDOT) and King County Department of Transportation, is issuing this notice to advise the public that a supplement to the final EIS will be prepared on the proposal to replace the Elliott Bridge on 149th Avenue Southeast where it crosses the Cedar River approximately three miles east of downtown Renton in King County, Washington.

FOR FURTHER INFORMATION CONTACT: Jim Leonard, P.E., Urban Area Engineer, Federal Highway Administration, 711 South Capitol Way, Suite 501, Olympia, Washington 98501-1284, Telephone: (360) 753-9408 or Tina Morehead, Senior Environmental Engineer, King County, Road Services Division, Department of Transportation, King Street Center M.S. KSC-TR-0231, 201 South Jackson Street, Seattle, WA 98104-3856, Telephone: (206) 296-3733.

SUPPLEMENTARY INFORMATION: The Record of Decision for the orginal EIS for the improvements (FHWA-WA-EIS-92-4-F) was signed on November 21, 1995. In the original EIS, the proposed improvements to the Elliott Bridge provided a three-lane bridge (two travel lanes and one center lane) with pedestrain sidewalk and associated approach road realignment. Improvements to the bridge were, and still are, considered necessary to provide for traffic circulation, roadway safety, and structural stability.

After approval and subsequent appeal of the local shoreline substantial development permit, King County withdrew its shoreline permit application based on issues related to the Federal Endangered Species Act. Since that withdrawal, the county and FHWA have reevaluated the project and determined that a supplemental EIS needs to be prepared to address those issues.

No formal scoping period will be held. Letters describing the proposed action and soliciting comments will be sent to appropriate Federal, State, and local agencies, and to private organizations and citizens who have previously expressed or are known to have interest in this proposal. Subsequent to distribution of the draft supplemental EIS, a public hearing will be held during the EIS comment period. The location and time of the public hearing will be announced in the local news media and through a public mailing when it is scheduled. The draft supplemental EIS will be available for public and agency review prior to the public hearing. Release of the draft supplemental EIS for public comment and the public hearing will also be announced in the local news media as these dates are established.

Comments or questions concerning this proposed action and the supplemental EIS should be directed to FHWA or King County at the address provided above.

(Catalog of Federal Domestic Assistance Program Number 20.205, Highway Research, Planning, and Construction. The regulations implementing Executive Order 12372 regarding intergovernmental consultation on Federal programs and activities apply to this program.)

Issued on: July 9, 2002.
Jim Leonard,
Urban Area Engineer, Federal Highway Administration, Washington Division.

[FR Doc. 02-18328 Filed 7-19-02; 8:45 am]

BILLING CODE 4910-22-M